DEPARTMENT OF ENERGY

[OE Docket No. TPF-01]

Extension of Public Comment Period for Application for Proposed Project for Clean Line Plains & Eastern Transmission Line

AGENCY: Office of Electricity Delivery and Energy Reliability, DOE.

ACTION: Extension of public comment period.

SUMMARY: The Department of Energy (DOE) published a Notice of Application for Proposed Project for Clean Line Plains & Eastern Transmission Line (80 FR 23520) requesting public comment on an application submitted by Clean Line Energy Partners, LLC under Section 1222 of the Energy Policy Act of 2005. DOE is extending the end of the public comment period on the application for the Clean Line Plains & Eastern Transmission Line from June 12 to July 13, 2015.

DATES: DOE extends the public comment period to July 13, 2015. Comments submitted to DOE concerning Clean Line's application prior to this announcement do not need to be resubmitted as a result of this extension of the comment period.

ADDRESSES: Written comments should be addressed as follows: 1222 Program, Office of Electricity Delivery and Energy Reliability (OE-20), U.S. Department of Energy, 1000 Independence Avenue SW., Washington, DC 20585. Electronic comments can be emailed to plainsandeastern@hq.doe.gov.

FOR FURTHER INFORMATION CONTACT: Angela Colamaria at 202-287-5387 or via electronic mail at Angela.Colamaria@hq.doe.gov.

SUPPLEMENTARY INFORMATION: On April 28, 2015, DOE published a Notice of Application for Proposed Project for Clean Line Plains & Eastern Transmission Line (80 FR 23520) requesting public comment on an application submitted by Clean Line Energy Partners, LLC under Section 1222 of the Energy Policy Act of 2005. That notice announced that comments on Clean Line's application should be submitted within a 45-day period beginning on April 28, 2015 and ending on June 12, 2015. DOE is extending the time allowed for submittal of comments to July 13, 2015. In addition to this Federal Register Notice, DOE posted a notice of the extension on its Web site and sent an email to interested parties on June 11, 2015.

Issued in Washington, DC, on June 11, 2015.
Terri Lee,
Assistant Secretary, Acting, Office of Electricity Delivery and Energy Reliability.

[FR Doc. 2015-14918 Filed 6-16-15; 8:45 am]

BILLING CODE 6450-01-P